DEPARTMENT OF HEALTH AND HUMAN SERVICES

Centers for Medicare & Medicaid Services

[CMS-1587-N2]

Medicare Program; Notification of Closure of St. Vincent's Medical Center; Extension of the Deadline for Submission of Applications

AGENCY: Centers for Medicare & Medicaid Services (CMS), HHS.

ACTION: Notice of extension of the Deadline for Submission of Applications.

SUMMARY: This notice extends the deadline for hospitals to apply to the Centers for Medicare & Medicaid Services (CMS) to receive St. Vincent's Medical Center's full time equivalent (FTE) resident cap slots. The application deadline, which was September 28, 2011, has been extended to December 1, 2011.

DATES: The application deadline is extended to 5 p.m. (e.s.t.) on December 1, 2011.

FOR FURTHER INFORMATION CONTACT: Renate Dombrowski, (410) 786-4645. Miechal Lefkowitz, (212) 616-2517.

SUPPLEMENTARY INFORMATION: On May 31, 2011, we published a notice in the Federal Register (76 FR 31340) to announce the closure of St. Vincent's Medical Center and the initiation of an application process for hospitals to apply to the Centers for Medicare & Medicaid Services (CMS) to receive St. Vincent's Medical Center's full time equivalent (FTE) resident cap slots, as provided under section 5506 of the Patient Protection and Affordable Care Act (Pub. L. 111-148), as amended by the Health Care and Education Reconciliation Act of 2010 (Pub. L. 111-152) (collectively, the “Affordable Care Act”), “Preservation of Resident Cap Positions from Closed Hospitals.” Specifically, section 5506 of the Affordable Care Act authorizes the Secretary to redistribute residency cap slots after a hospital that trained residents in an approved medical residency program(s) closes. St. Vincent's Medical Center's official date of termination of the Medicare provider agreement and date of closure is October 31, 2010. The published notice, announcing the hospital closure and initiating the application process to preserve St. Vincent's resident cap positions stated that the application deadline was September 28, 2011. The date of September 28, 2011, was chosen since the procedure described in the November 24, 2010 Federal Register (75 FR 72215) for initiating an application process specifies that the application deadline would be 4 months after issuance of the notice to the public (that is, September 28, 2011, is 4 months after May 31, 2011).

Specifically, section 5506 of the Affordable Care Act instructs the Secretary to increase the FTE resident caps for other hospitals based upon the FTE resident positions in teaching hospitals that closed “on or after a date that is 2 years before the date of enactment” (that is, March 23, 2008). In the November 24, 2010 Federal Register (75 FR 72215), we stated that hospitals wishing to apply for FTE resident cap slots from teaching hospitals that closed between March 23, 2008 and through and including August 3, 2010, must submit applications to CMS by April 1, 2011. We further stated that for any teaching hospital closures occurring after August 3, 2010, separate notice would be made announcing the closure and initiating an application process for those slots and a future application deadline. The first application process with the application deadline of April 1, 2011, spanned over a 2-year timeframe (covering all hospital closures between March 28, 2008 and through and including August 3, 2010), and involved 15 closed teaching hospitals, generating a very large number of applications and slots to be redistributed. The closure of St. Vincent's Medical Center occurred on October 31, 2010, and the notice announcing the closure and initiating the application process was published on May 31, 2011, establishing the September 28, 2011 application deadline. Thus, the application period CMS initiated for the preservation of FTE resident slots due to the closure of St. Vincent's Medical Center overlaps with the period during which CMS is processing and reviewing the applications received under the first expansive section 5506 application process, and issuing final determinations to hospitals that may receive increases to their FTE resident caps. Moreover, we note that St. Vincent's Medical Center is located in the same CBSA as 3 (of the 15) hospitals that closed between March 23, 2008 through August 3, 2010, and many of the hospitals wishing to apply for slots from St. Vincent's Medical Center have indicated that it would be helpful to receive the results of their applications submitted under the first section 5506 process in order to make informed decisions regarding the number of slots for which to apply from St. Vincent's Medical Center under this separate application process. CMS does not have a specific deadline by which to issue final determinations to hospitals that receive slots under section 5506 of the Affordable Care Act under the initial expansive application process, yet we understand the concerns of these hospitals and believe it is appropriate, in this case, to extend the application deadline for FTE resident slots from St. Vincent's Medical Center. Accordingly, we are extending the application deadline for FTE resident slots from St. Vincent's Medical Center from September 28, 2011 to December 1, 2011. We will consider applications received no later than 5 p.m. (e.s.t) December 1, 2011. Applications must be received, not postmarked, by this date.

We continue to refer readers to http://www.cms.gov/AcuteInpatientPPS/06_dgme.asp# TopOfPage to download a copy of the CMS Evaluation Form 5506, which is the application form that hospitals are to use to apply for slots under section 5506 of the Affordable Care Act. In addition, readers can access this Web site for a copy of the CY 2011 OPPS November 24, 2010 final rule, for an explanation of the policy and procedures for applying for slots and the redistribution of the slots under sections 1886(h)(4)(H)(vi) and 1886(d)(5)(B)(v) of the Social Security Act, as provided by section 5506 of the Affordable Care Act. The mailing addresses for the CMS New York Regional Office and the CMS Central Office are included in this application form.

(Catalog of Federal Domestic Assistance Program No. 93.773, Medicare—Hospital Insurance; and Program No. 93.774, Medicare—Supplementary Medical Insurance Program)

Dated: September 1, 2011.
Donald M. Berwick,
Administrator, Centers for Medicare & Medicaid Services.

[FR Doc. 2011-23120 Filed 9-8-11; 8:45 am]

BILLING CODE 4120-01-P